DEPARTMENT OF JUSTICE

Notice of Lodging of Proposed Consent Decree Under the Clean Air Act

On October 26, 2015, the Department of Justice lodged a proposed Consent Decree with the United States District Court for the Northern District of Ohio in the lawsuit entitled United States v. Cleveland Thermal, LLC., Civil Action No. 1:15-cv-2198.

In the Complaint, the United States alleges that Cleveland Thermal, LLC, (“Cleveland Thermal”) violated, at a steam generating facility that it owns and operates in Cleveland, Ohio, the Prevention of Significant Deterioration regulations, the Nonattainment New Source Review regulations, and the Standards of Performance for New Stationary Sources, all promulgated under the Clean Air Act, 42 U.S.C. 7401 et seq.

Under the Consent Decree, Cleveland Thermal will retire all three of its coal-fired boilers; will retire three of its five fuel oil-fired boilers; and will operate its remaining two fuel oil-fired boilers as “limited use” boilers. Cleveland Thermal will install and operate new natural gas-fired boilers to replace the lost capacity. The new natural gas-fired boilers must be properly permitted. In addition, Cleveland Thermal may opt to install and operate a properly permitted new, natural gas-fired cogeneration facility. Cleveland Thermal will pay a civil penalty of $75,000 and perform an environmental mitigation project worth $350,000.

The publication of this notice opens a period for public comment on the Consent Decree. Comments should be addressed to the Assistant Attorney General, Environment and Natural Resources Division, and should refer to United States v. Cleveland Thermal, LLC, D.J. Ref. No. 90-5-2-1-10579. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611

Please enclose a check or money order for $24.75 (25 cents per page reproduction cost) payable to the United States Treasury. For a paper copy without the exhibits and signature pages, the cost is $15.50.

Randall M. Stone,
Acting Assistant Section Chief, Environmental Enforcement Section, Environment and Natural Resources Division.

[FR Doc. 2015-27615 Filed 10-29-15; 8:45 am]

BILLING CODE 4410-15-P